FEDERAL COMMUNICATIONS COMMISSION

47 CFR Part 73

[DA 10-2118; MB Docket No. 08-86; RM-11432; RM-11607]

Radio Broadcasting Services; Onekama, MI

AGENCY: Federal Communications Commission.

ACTION: Final rule.

SUMMARY: The Audio Division, at the request of Northern Radio of Michigan, Inc., in its counterproposal, allots FM Channel 227A at Onekama, Michigan, as a first local aural service. Channel 227A can be allotted at Onekama, consistent with the minimum distance separation requirements of the Commission's rules, at coordinates 44-21-48 NL and 86-12-18 WL, without site restriction. The Government of Canada has concurred in the allotment, which is required because the proposed allotment is located within 320 kilometers (199 miles) of the U.S.-Canadian border. The original proposal of Roy E. Henderson, for the substitution of FM Channel 227A for vacant Channel 263A at Custer, Michigan, was dismissed. See SUPPLEMENTARY INFORMATION infra.

DATES: Effective December 22, 2010.

FOR FURTHER INFORMATION CONTACT: Deborah Dupont, Media Bureau, (202) 418-2180.

SUPPLEMENTARY INFORMATION: This is a synopsis of the Commission's Report and Order, MB Docket No. 08-86, adopted November 3, 2010, and released November 5, 2010. The full text of this Commission decision is available for inspection and copying during normal business hours in the FCC Reference Information Center, Portals II, 445 12th Street, SW., Room CY-A257, Washington, DC 20554. The complete text of this decision also may be purchased from the Commission's duplicating contractor, Best Copy and Printing, Inc., 445 12th Street, SW., Room CY-B402, Washington, DC 20554, (800) 378-3160, or via the company's Web site, http://www.bcpiweb.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). The Commission will send a copy of this Report and Order in a report to be sent to Congress and the Government Accountability Office pursuant to the Congressional Review Act, see U.S.C. 801(a)(1)(A).

List of Subjects in 47 CFR Part 73

Radio, Radio broadcasting.

For the reasons discussed in the preamble, the Federal Communications Commission amends 47 CFR Part 73 as follows:

PART 73—RADIO BROADCAST SERVICES

1. The authority citation for Part 73 continues to read as follows:

Authority: 47 U.S.C. 154, 303, 334, 336.

§ 73.202 [Amended]

2. Section 73.202(b), the Table of FM Allotments under Michigan, is amended by adding Onekama, Channel 227A.

Federal Communications Commission.
John A. Karousos,
Assistant Chief, Audio Division, Media Bureau.

[FR Doc. 2010-29381 Filed 11-19-10; 8:45 am]

BILLING CODE 6712-01-P